DEPARTMENT OF THE INTERIOR

Bureau of Ocean Energy Management

[OMB Control Number 1010-New; Docket ID: BOEM-2017-0016]

Agency Information Collection Activities; Evaluating Connections: BOEM's Environmental Studies and Assessments

AGENCY: Bureau of Ocean Energy Management, Interior.

ACTION: Notice of information collection; request for comment.

SUMMARY: In accordance with the Paperwork Reduction Act of 1995, the Bureau of Ocean Energy Management (BOEM) is proposing a new information collection request (ICR).

DATES: Interested persons are invited to submit comments on or before June 28, 2021.

ADDRESSES: Send your comments on this ICR by mail to the BOEM Information Collection Clearance Officer, Anna Atkinson, Bureau of Ocean Energy Management, 45600 Woodland Road, Sterling, Virginia 20166; or by email to anna.atkinson@boem.gov. Please reference OMB Control Number 1010-NEW in the subject line of your comments.

FOR FURTHER INFORMATION CONTACT: To request additional information about this ICR, contact Anna Atkinson by email at anna.atkinson@boem.gov, or by telephone at 703-787-1025.

SUPPLEMENTARY INFORMATION: In accordance with the Paperwork Reduction Act of 1995, BOEM provides the general public and other Federal agencies with an opportunity to comment on new, proposed, revised, and continuing collections of information. This helps BOEM assess the impact of its information collection requirements and minimize the public's reporting burden. It also helps the public understand BOEM's information collection requirements and provide the requested data in the desired format.

BOEM is soliciting comments on the proposed ICR described below. BOEM is especially interested in public comments addressing the following issues: (1) Is the collection necessary to the proper functions of BOEM; (2) what can BOEM do to ensure that this information is processed and used in a timely manner; (3) is the burden estimate accurate; (4) how might BOEM enhance the quality, utility, and clarity of the information to be collected; and (5) how might BOEM minimize the burden of this collection on the respondents, including minimizing the burden through the use of information technology?

Comments submitted in response to this notice are a matter of public record. BOEM will include or summarize each comment in its request to the Office of Management and Budget (OMB) for approval of this ICR. You should be aware that your entire comment—including your address, phone number, email address, or other personally identifiable information included in your comment—may be made publicly available. In order to inform BOEM to withhold from disclosure your personally identifiable information, you must identify any information contained in your comment that, if released, would constitute a clearly unwarranted invasion of your personal privacy. You also must briefly describe any possible harmful consequences of disclosure of that information, such as embarrassment, injury, or other harm. While you can ask in your comment that your personally identifiable information be withheld from public disclosure, BOEM cannot guarantee that it will be able to do so.

BOEM protects proprietary information in accordance with the Freedom of Information Act (5 U.S.C. 552) and the Department of the Interior's implementing regulations (43 CFR part 2).

Title of Collection: Evaluating Connections: BOEM's Environmental Studies and Assessments.

Abstract: Section 20 of the Outer Continental Shelf Lands Act (OCSLA) (43 U.S.C. 1346) requires the Secretary of the Interior to study any area or region included in an oil, gas, or other lease sale to gather information needed for assessment and management of impacts on the human, marine, and coastal environments of the Outer Continental Shelf (OCS) and the affected coastal areas. Additionally, subsequent to the leasing and developing of any OCS area, the Secretary may authorize further environmental studies to gather information that can be used for identifying significant changes and trends in the quality and productivity of such environments and for designing experiments to identify the causes of such changes.

This statutory authority is carried out through BOEM's Environmental Studies Program (ESP). In fulfilling its mission, BOEM must comply with a range of environmental laws and regulations. To comply with relevant statutes and policies, BOEM develops environmental assessments, including National Environmental Policy Act (NEPA) analyses, consultation documents, and other analyses that require up-to-date and relevant scientific information. For purposes of this notice, the term “environmental assessment” encompasses the types of analyses that BOEM's Environmental Assessment Program undertakes and is not restricted to NEPA environmental assessments. For example, the following types of documents are considered in the universe of BOEM environmental assessments:

• NEPA environmental impact statements.

• NEPA environmental assessments.

• National Historic Preservation Act (NHPA) documents (including section 106 evaluations of effects on historic properties and programmatic agreements).

• Essential fish habitat assessments for Magnuson-Stevens Fishery Conservation and Management Act consultations.

• Endangered Species Act (ESA) section 7 biological evaluations or biological assessments.

• Analyses and assessments prepared to comply with the Clean Air Act (CAA), Coastal Zone Management Act (CZMA), and Marine Mammal Protection Act (MMPA).

• Analyses and assessments such as engineering analyses, regulatory impact analyses, resource evaluations, additional NEPA-related analyses, site assessments, and cost-benefit analyses prepared for OCSLA and other regulatory requirements.

Environmental studies sponsored by the ESP provide scientific information to inform BOEM's environmental assessments. BOEM describes the process by which environmental studies inform environmental assessments and environmental assessments inform environmental studies as a “feedback loop.” To determine how well this feedback loop is functioning and to identify potential improvements in the science-to-policy process, BOEM is pursuing an evaluation of the linkages between the scientific research it is funding and the information needs within its assessments. The evaluation will include surveys and interviews of BOEM ESP and assessment program partners (e.g., Federal and State agencies, academic institutions and scholars, tribes, and consultants).

The goal of the external survey will be to conduct a network analysis focusing on information exchange between BOEM ESP and assessment programs and their external program partners. The survey results will be used to understand how program partners use BOEM's study and assessment information and the network through which this information is disseminated. The survey results will inform an analysis that can be used to understand the network structure, possible network influence on outcomes, and people or organizations that could be targeted or connected to achieve better expected outcomes.

The survey will be administered online. The survey will be sent to all program partners that BOEM environmental studies and assessment staff indicate they communicate with about environmental study and assessment topics. Following a brief email introduction, each survey respondent will receive a unique weblink to complete the online survey. The survey questions will ask respondents: (1) From whom they receive and with whom they share BOEM environmental study and assessment information, and (2) how they use that environmental information for their organization's work. The survey will include 10 to 12 mostly discrete-choice questions and will take up to 20 minutes to complete. Descriptive statistics will be calculated at the organizational level, and results will be presented in a tabular format and network graphs.

All agencies, organizations, and institutions that BOEM identifies as important for understanding the feedback loop will be contacted for an interview. Interviews will be semi-structured. Respondents will be asked questions tailored to their type of organization. Interviewers will ask respondents to provide insight into how and why linkages between BOEM and respondents are (or are not) present, and how and why respondents are or are not using study and assessment information from BOEM. As a semi-structured interview, the interviewer will have the opportunity to ask follow-up questions based on initial responses. The interviewers will ask about the respondents' roles or positions within their organizations, how they use BOEM's environmental studies and assessment information in their organizations' work, and how their organizations contribute to studies and assessments. Additionally, the interviewers will request recommendations on ways to strengthen linkages moving forward. The responses will be analyzed using qualitative coding analysis.

This information is not otherwise available and will help inform agency efforts to improve the feedback loop process and ultimately better inform agency decisions.

OMB Control Number: 1010-NEW.

Type of Review: New.

Respondents/Affected Public: BOEM ESP and assessment programs partners.

Total Estimated Number of Annual Responses: 70 interviews; up to 880 online surveys.

Survey questions will be discrete-choice/closed-ended; interview guide will be semi-structured/open-ended.

Estimated Completion Time per Response: 60 minutes per interview; up to 20 minutes per survey.

Total Estimated Number of Annual Burden Hours: 70 hours for interviews; up to 294 hours for surveys.

Respondent's Obligation: Voluntary.

Frequency of Collection: One time.

Total Estimated Annual Non-hour Burden Cost: There is no non-hour cost burden associated with this collection.

An agency may not conduct or sponsor, and a person is not required to respond to, a collection of information unless it displays a valid OMB control number.

The authority for this action is the Paperwork Reduction Act of 1995 (44 U.S.C. 3501 et seq.).

Deanna Meyer-Pietruszka,
Chief, Office of Policy, Regulation, and Analysis.

[FR Doc. 2021-08797 Filed 4-27-21; 8:45 am]

BILLING CODE 4310-MR-P